DEPARTMENT OF VETERANS AFFAIRS

Privacy Act of 1974; System of Records

AGENCY: Department of Veterans Affairs (VA), Office of the Secretary.

ACTION: Rescindment of a System of Records.

SUMMARY: ExecVA was a repository for Veterans' calls. The details of the calls are recorded and assigned to field personnel within the system. Users throughout VA can collaborate on responses to Veterans and other stakeholders, which results in improved accuracy, consistency, and timeliness of responses through shared data and knowledge management. ExecVA was developed on the COTS product Footprints.

DATES: VA stopped maintaining the system of record in ExecVA the week of September 28, 2018. During this time ExecVA data was migrated to SalesForce.com.

Comments on this rescindment notice must be received no later than 30 days after date of publication in the Federal Register. If no public comment is received during the period allowed for comment or unless otherwise published in the Federal Register by VA, the rescindment will become effective a minimum of 30 days after date of publication in the Federal Register. If VA receives public comments, VA shall review the comments to determine whether any changes to the notice are necessary.

ADDRESSES: Comments may be submitted through www.Regulations.gov or mailed to VA Privacy Service, 810 Vermont Avenue NW, (005R1A), Washington, DC 20420. Comments should indicate that they are submitted in response to the Executive Veterans Affairs Contact Management System (Exec VA)-VA (141VA005Q3). Comments received will be available at regulations.gov for public viewing, inspection or copies.

FOR FURTHER INFORMATION CONTACT: Robert Mark, Application Administrator, (202) 461-6388; Christopher Oakleaf, Project Manager, (512) 326-6690; Debi Bevins, Executive Staff Director, (202) 461-4830.

SUPPLEMENTARY INFORMATION: ExecVA was migrated along with its records to SalesForce.com the week of September 28, 2018. The SORN covering that information is 75VA001B. ExecVA, along with its records, were then taken offline and decommissioned.

Signing Authority

The Senior Agency Official for Privacy, or designee, approved this document and authorized the undersigned to sign and submit the document to the Office of the Federal Register for publication electronically as an official document of the Department of Veterans Affairs. Dominic A. Cussatt, Acting Assistant Secretary of Information and Technology and Chief Information Officer, approved this document on June 15, 2021 for publication.

Dated: June 15, 2021.
Amy L. Rose,
Program Analyst, VA Privacy Service, Office of Information Security, Office of Information and Technology, Department of Veterans Affairs.

SYSTEM NAME AND NUMBER:

ExecVA—141VA005Q3—Executive Veterans Affairs Contact Management System (Exec VA)-VA

HISTORY:

Federal Register citation is 75 FR 11186. ExecVA was migrated to SalesForce.com the week of September 28, 2018.

[FR Doc. 2021-13554 Filed 6-24-21; 8:45 am]

BILLING CODE P